ENVIRONMENTAL PROTECTION AGENCY

[EPA-HQ-OPP-2009-0136; FRL-11049-01-OCSPP]

Pesticide Registration Review; Sulfuryl Fluoride Revised Mitigation and Response to Comments on the Draft Interim Re-Entry Mitigation Measures Memorandum; Notice of Availability

AGENCY: Environmental Protection Agency (EPA).

ACTION: Notice.

SUMMARY: This notice announces the availability of EPA's Sulfuryl Fluoride Revised Mitigation and Response to Comments on the Draft Interim Re-Entry Mitigation Measures Memorandum, which is being issued to address human health concerns and in response to EPA's Office of Inspector General 2016 (OIG) Report, Additional Measures Can Be Taken to Prevent Deaths and Serious Injuries from Residential Fumigations (No. 17-P-0053). Sulfuryl flouride is currently in registration review which is EPA's periodic review of pesticide registrations to ensure that each pesticide continues to satisfy the statutory standard for registration, that is, that the pesticide can perform its intended function without causing unreasonable adverse effects on human health or the environment. Through this program, EPA is ensuring that each pesticide's registration is based on current scientific and other knowledge, including its effects on human health and the environment. EPA may pursue mitigation at any time during the registration review process if it finds that a pesticide poses unreasonable adverse effects to human health or the environment. EPA believes that the mitigation measures outlined in the Sulfuryl Fluoride Revised Mitigation and Response to Comments on the Draft Interim Re-Entry Mitigation Measures Memorandum are necessary to address identified human health risk concerns from the use of sulfuryl fluoride as a structural fumigant in residential use sites.

ADDRESSES: The docket for this action, identified under docket identification (ID) number EPA-HQ-OPP-2009-0136, is available online at https://www.regulations.gov. Additional instructions on visiting the docket, along with more information about dockets generally, is available at https://www.epa.gov/dockets.

FOR FURTHER INFORMATION CONTACT: For pesticide specific information contact: Moana Appleyard, Pesticide Re-Evaluation Division (7508P), Office of Pesticide Programs, Environmental Protection Agency, 1200 Pennsylvania Ave. NW, Washington, DC 20460-0001; telephone number: (202) 566-2220; email address: appleyard.moana@epa.gov.

For general questions on the registration review program, contact: Melanie Biscoe, Pesticide Re-Evaluation Division (7508P), Office of Pesticide Programs, Environmental Protection Agency, 1200 Pennsylvania Ave. NW, Washington, DC 20460-0001; telephone number: (202) 566-0701; email address: biscoe.melanie@epa.gov.

SUPPLEMENTARY INFORMATION:

I. General Information

A. Does this action apply to me?

This action is directed to the public in general and may be of interest to a wide range of stakeholders including environmental and human health advocates; the chemical industry; pesticide users; and members of the public interested in the sale, distribution, or use of pesticides. Since others also may be interested, the Agency has not attempted to describe all the specific entities that may be affected by this action. If you have any questions regarding the applicability of this action to a particular entity, consult the Chemical Review Manager listed under FOR FURTHER INFORMATION CONTACT.

B. How can I get copies of this document and other related information?

The docket for this action, identified by docket identification (ID) number EPA-HQ-OPP-2009-0136, is available at https://www.regulations.gov.

II. Background

Registration review is EPA's periodic review of pesticide registrations to ensure that each pesticide continues to satisfy the statutory standard for registration, that is, the pesticide can perform its intended function without unreasonable adverse effects on human health or the environment. The sulfuryl flouride decision document, which is ahead of the typical mitigation phase of Registration Review, is in response to the EPA Office of the Inspector General's (OIG) 2016 report entitled Additional Measures Can Be Taken to Prevent Deaths and Serious Injuries From Residential Fumigations (available at: https://www.epa.gov/sites/production/files/2016-12/documents/_epaoig_20161212-17-p-0053.pdf). The Agency issued the Sulfuryl Fluoride Draft Interim Re-Entry Mitigation Measures in May 2021 for public comment. During the comment period, comments were received that resulted in changes to the Agency's mitigation decision, including revising the aeration procedures. The purpose of the Sulfuryl Fluoride Revised Mitigation and Response to Comments on the Draft Interim Re-Entry Mitigation Measures Memorandum is to announce the final risk mitigation measures to address these recommendations from the OIG Report and provide responses to the comments received on the draft interim risk mitigation measures. EPA expects that the implementation of the mitigation measures described in this risk mitigation document will allow sulfuryl fluoride products to remain available to users while addressing the recommendations from the OIG report.

Once all the risk assessments are completed for all the uses of sulfuryl fluoride, EPA may propose additional mitigation to address potential risks, as part of the normal registration review process. EPA will solicit public input on any additional risk mitigation in a Proposed Interim Decision (PID). Through the registration review program, EPA is ensuring that each pesticide's registration is based on current scientific and other knowledge, including its effects on human health and the environment.

III. Authority

EPA is conducting its registration review of the sulfuryl fluoride documents listed in Unit IV pursuant to section 3(g) of the Federal Insecticide, Fungicide, and Rodenticide Act (FIFRA) and the Procedural Regulations for Registration Review at 40 CFR part 155, subpart C. Section 3(g) of FIFRA provides, among other things, that the registrations of pesticides are to be reviewed every 15 years. Under FIFRA, a pesticide product may be registered or remain registered only if it meets the statutory standard for registration given in FIFRA section 3(c)(5) (7 U.S.C. 136a(c)(5)). When used in accordance with widespread and commonly recognized practice, the pesticide product must perform its intended function without unreasonable adverse effects on the environment; that is, without any unreasonable risk to man or the environment, or a human dietary risk from residues that result from the use of a pesticide in or on food.

IV. What action is the Agency taking?

Pursuant to 40 CFR 155.58, this notice announces the availability of EPA's Sulfuryl Fluoride Revised Mitigation and Response to Comments on the Draft Interim Re-Entry Mitigation Measures, to finalize the Agency's early mitigation in response to the OIG Report.

As provided in 40 CFR 155.58, the registration review docket for each pesticide case will remain publicly accessible through the duration of the registration review process; that is, until all actions required in the final decision on the registration review case have been completed. Background on the registration review program is provided at: https://www.epa.gov/pesticide-reevaluation.

Authority: 7 U.S.C. 136 et seq.

Dated: June 26, 2023.
Mary Elissa Reaves,
Director, Pesticide Re-Evaluation Division, Office of Pesticide Programs.

[FR Doc. 2023-13879 Filed 6-28-23; 8:45 am]

BILLING CODE 6560-50-P